NUCLEAR REGULATORY COMMISSION

10 CFR Part 50

[NRC-2008-0122]

Criteria for Development of Evacuation Time Estimate Studies (NUREG/CR-7002, Revision 1)

AGENCY: Nuclear Regulatory Commission.

ACTION: Draft NUREG; request for comment.

SUMMARY: The U.S. Nuclear Regulatory Commission (NRC) is issuing for public comment a draft NUREG, NUREG/CR-7002, “Criteria for Development of Evacuation Time Estimate Studies,” Revision 1. This draft NUREG provides guidance to meet NRC requirements for development of evacuation time estimates (ETEs) to support emergency planning. This revision reflects the importance of various ETE model parameters based on the results of an applied research study on ETEs. The format and criteria provided in this document will support consistent application of the ETE methodology and will facilitate consistent NRC review of ETE studies. The NRC is soliciting public comment on the contemplated action and invites stakeholders and interested persons to participate. The NRC plans to hold a public meeting to promote full understanding of the contemplated action and facilitate public comment.

DATES: Submit comments by October 13, 2020. Comments received after this date will be considered if it is practical to do so, but the Commission is able to ensure consideration only for comments received before this date.

ADDRESSES: You may submit comments by any of the following methods:

• Federal Rulemaking Website: Go to https://www.regulations.gov and search for Docket ID NRC-2008-0122. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Todd Smith, Office of Nuclear Security and Incident Response, U.S. Nuclear Regulatory Commission, Washington DC 20555-0001; telephone: 301-287-3744, email: Todd.Smith@nrc.gov.

SUPPLEMENTARY INFORMATION:

I. Obtaining Information and Submitting Comments

Please refer to Docket ID NRC-2008-0122 when contacting the NRC about the availability of information for this action. You may obtain publicly-available information related to this action by any of the following methods:

• Federal Rulemaking Website: Go to https://www.regulations.gov and search for Docket ID NRC-2008-0122.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced (if it is available in ADAMS) is provided the first time that it is mentioned in this document. Revision 1 to NUREG/CR-7002, “Criteria for Development of Evacuation Time Estimate Studies” is available in ADAMS under Accession No. ML20233A700.

A. Submitting Comments

Please include Docket ID NRC-2008-0122 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The ETE is a calculation of the time to evacuate the plume exposure pathway emergency planning zone (EPZ), an area around a nuclear power plant for which planning is needed to ensure prompt and effective actions can be taken in the event of a radiological emergency. The ETE is primarily used to inform protective action strategies within the EPZ and may be used to assist in the development of traffic management plans to support an evacuation. In November 2011, the NRC issued NUREG/CR-7002, “Criteria for Development of Evacuation Time Estimate Studies” (ADAMS Accession No. ML113010515), as guidance to support compliance with ETE provisions added to the NRC's regulations in title 10 of the Code of Federal Regulations (10 CFR), part 50, appendix E, section IV, in a final rule issued on November 23, 2011 (76 FR 72560). The initial release of this guidance was based on previous advancements in the development of ETE modeling and knowledge gained through research of large scale evacuations and staged evacuations.

Draft NUREG/CR-7002, Revision 1, is based on an applied research study to examine, through modeling and simulation, technical subjects associated with the use of traffic simulation models for ETE studies, documented in NUREG/CR-7269, “Enhancing Guidance for Evacuation Time Estimate Studies” (ADAMS Accession No. ML20070M158). Specific areas of research include the impact of shadow evacuations, evacuation model boundary conditions, the use of manual traffic control, and the sensitivity of various model parameters important to ETE studies. The study provided a technical basis for revisions to NUREG/CR-7002 to reflect current practices in transportation modeling and an enhanced understanding of evacuation dynamics. Proposed revisions also include guidance for developing ETEs for various sized EPZs, updating ETEs, developing ETE studies in support of early site permit applications, and using measures of effectiveness for assessing model performance. The NRC's intent in revising NUREG/CR-7002 is to ensure consistency in the development and review of ETE studies.

III. Backfitting, Forward Fitting, and Issue Finality

Issuance of draft NUREG/CR-7002, Revision 1, if finalized, would not constitute backfitting as defined in 10 CFR 50.109, “Backfitting,” and as described in NRC Management Directive 8.4, “Management of Backfitting, Forward Fitting, Issue Finality, and Information Requests”; affect issue finality of any approval issued under 10 CFR part 52, “Licenses, Certificates, and Approvals for Nuclear Power Plants”; or constitute forward fitting as defined in Management Directive 8.4, because, as explained in draft NUREG/CR-7002, Revision 1, licensees are not required to comply with the positions set forth in that document.

IV. Public Meeting

The NRC will conduct a public meeting to describe draft NUREG/CR-7002, Revision 1, and answer questions from the public. The NRC will publish a notice of the location, time, and agenda of the meeting on the NRC's public meeting website at least 10 calendar days before the meeting. Stakeholders should monitor the NRC's public meeting website for information about the public meeting at https://www.nrc.gov/public-involve/public-meetings.html.

Dated: August 21, 2020.
For the Nuclear Regulatory Commission.
Kathryn M. Brock,
Director, Division of Preparedness and Response, Office of Nuclear Security and Incident Response.

[FR Doc. 2020-18818 Filed 8-26-20; 8:45 am]

BILLING CODE 7590-01-P